DEPARTMENT OF AGRICULTURE

Animal and Plant Health Inspection Service

[Docket No. APHIS-2024-0021]

National Wildlife Services Advisory Committee: Intent To Reestablish

AGENCY: Animal and Plant Health Inspection Service, USDA.

ACTION: Notice of intent to reestablish the National Wildlife Services Advisory Committee.

SUMMARY: Pursuant to the Federal Advisory Committee Act, as amended (5 U.S.C. 10) notice is hereby given that the Secretary of Agriculture (Secretary) intends to reestablish the National Wildlife Services Advisory Committee (the “Committee”) for a 2-year period. The Secretary has determined that the Committee is necessary and in the public interest.

DATES: Once approved by the Secretary, the charter will be valid on the date of filing by the U.S. Department of Agriculture Committee Management Officer and once the filing requirements are met.

FOR FURTHER INFORMATION CONTACT: Ms. Carrie Joyce, Designated Federal Officer, Wildlife Services, APHIS, 4700 River Road, Unit 87, Riverdale, MD 20737; (301) 851-3999; carrie.e.joyce@usda.gov.

SUPPLEMENTARY INFORMATION: The purpose of the National Wildlife Services Advisory Committee (the Committee) is to advise the Secretary of Agriculture on policies, program issues, and research needed to conduct the Wildlife Services program. The Committee also serves as a public forum enabling those affected by the Wildlife Services program to have a voice in the program's policies. The duration of the NWSAC is for 2 years unless renewed by the Secretary, USDA.

U.S. Department of Agriculture (USDA) programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Persons with disabilities who require alternative means of communication for program information (e.g., Braille, large print, audiotape, American Sign Language, etc.) should contact the responsible Agency or USDA's TARGET Center at (202) 720-2600 (voice and TTY) or contact USDA through the Federal Relay Service at (800) 877-8339. Additionally, program information may be made available in languages other than English. Equal opportunity practices in accordance with USDA's policies will be followed in all appointments to the Committee. To ensure that the recommendations of the Committee have taken in account the needs of the diverse groups served by USDA, membership shall include to the extent possible, individuals with demonstrated ability to represent minorities, women and person with disabilities. USDA is an equal opportunity provider, employer, and lender.

Dated: April 18, 2024.
Cikena Reid,
USDA Committee Management Officer.

[FR Doc. 2024-08919 Filed 4-25-24; 8:45 am]

BILLING CODE 3410-34-P